DEPARTMENT OF THE INTERIOR

Bureau of Ocean Energy Management, Regulation and Enforcement

Outer Continental Shelf (OCS), Western and Central Planning Areas of the Gulf of Mexico (GOM), Oil and Gas Lease Sales for 2012-2017

AGENCY: Bureau of Ocean Energy Management, Regulation and Enforcement (BOEMRE), Interior.

ACTION: Notice of Intent to Prepare an Environmental Impact Statement (EIS) and Notice of Scoping Meetings.

1. Authority

This Notice of Intent (NOI) and notice of scoping meetings is published pursuant to the regulations (40 CFR 1501.7) implementing the provisions of the National Environmental Policy Act (NEPA) of 1969 as amended (42 U.S.C. 4321 et seq. (1988)).

2. Purpose of Notice of Intent

Pursuant to the regulations implementing the procedural provisions of NEPA, BOEMRE is announcing its intent to prepare an EIS on the 2012-2017 oil and gas leasing proposals in the Western and Central Planning Areas of the GOM, off the States of Texas, Louisiana, Mississippi, and Alabama. The NOI also serves to announce the scoping process for this EIS. Throughout the scoping process, Federal, State, and local government agencies, and other interested parties have the opportunity to aid BOEMRE in determining the significant issues and alternatives to be analyzed in the EIS. BOEMRE will use and coordinate the NEPA commenting process to satisfy the public involvement process for Section 106 of the National Historic Preservation Act (16 U.S.C. 470f), as provided for in 36 CFR 800.2(d)(3).

The EIS analysis will focus on the potential environmental effects of oil and natural gas leasing, exploration, development, and production in the areas identified through the Area Identification Procedure as the proposed lease sale areas. In addition to the no action alternative (i.e., cancel the sale), other alternatives may be considered for each sale such as deferring certain areas from the proposed lease sales.

BOEMRE is also preparing a Programmatic EIS on the 5-Year OCS Oil and Gas Leasing Program for 2012-2017 in the draft proposed Outer Continental Shelf Oil and Gas Leasing Program: 2012-2017 (See FR Vol. 75, No. 63, Page 16828, April 2, 2010). BOEMRE is combining scoping meetings for the Programmatic and Gulf of Mexico Multisale EISs in Houston, Texas; New Orleans, Louisiana; and Mobile, Alabama. Information concerning the Leasing Program and Programmatic EIS can be accessed at: http://www.BOEMRE.gov/5-year/.

3. Supplemental Information

Federal regulations allow for several proposals to be analyzed in one EIS (40 CFR 1502.4). Since each sale proposal and projected activities are very similar each year for each sale area, BOEMRE is proposing to prepare a single EIS (Multisale EIS) for the several Western and Central Planning Areas lease sales to be held annually, scheduled for 2012-2017. The Multisale EIS approach allows for subsequent NEPA analysis to focus on changes in the proposed sales and on new issues and information. The Multisale EIS will eliminate the repetitive issuance of draft and final EISs for each sale area. The resource estimates and scenario information for the EIS analyses will be presented as a range that would encompass the resources and activities estimated for any of the 10 proposed lease sales. No final decision will be made until the end of the EIS process to allow for full consultation with Federal agencies, affected States, and the public. At the completion of this EIS process, BOEMRE will make decisions only for the first proposed sale in each sale area, scheduled to be held in 2012 (Western) and 2013 (Central). Subsequent to these first sales, BOEMRE will complete the NEPA process for each of the other proposed lease sales in the 2012-2017 Leasing Program. Formal consultation with other Federal agencies, affected States, and the public will be carried out to assist in the determination of whether or not the information and analyses in the original Multisale EIS are still valid. These consultations and NEPA reviews will be completed before decisions are made on the subsequent sales. For more information on the proposed sales or the Multisale EIS, you may contact Mr. Gary D. Goeke, Chief, Environmental Assessment Section, Leasing and Environment (Mail Stop 5410), Bureau of Ocean Energy Management, Regulation and Enforcement, Gulf of Mexico OCS Region, 1201 Elmwood Park Boulevard, New Orleans, Louisiana 70123-2394 or e-mail MultisaleEIS@BOEMRE.gov. You may also contact Mr. Goeke by telephone at (504) 736-3233.

4. Cooperating Agency

BOEMRE invites other Federal agencies and State, tribal, and local governments to consider becoming cooperating agencies in the preparation of the Multisale EIS. We invite qualified government entities to inquire about cooperating agency status for the EIS. Following the guidelines from the Council on Environmental Quality (CEQ), qualified agencies and governments are those with “jurisdiction by law or special expertise.” Potential cooperating agencies should consider their authority and capacity to assume the responsibilities of a cooperating agency and remember that an agency's role in the environmental analysis neither enlarges nor diminishes the final decisionmaking authority of any other agency involved in the NEPA process. Upon request, BOEMRE will provide potential cooperating agencies with a written summary of ground rules for cooperating agencies, including time schedules and critical action dates, milestones, responsibilities, scope and detail of cooperating agencies' contributions, and availability of predecisional information. BOEMRE anticipates this summary will form the basis for a Memorandum of Agreement between BOEMRE and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at: http://nepa.fhwa.dot.gov/ReNEPA/ReNepa.nsf/All+Documents/D155918ABFA4EB3A85256BF20071E9AE/$FILE/Cooperating%20Agencies%20Memorandum.1.30.02.doc and http://nepa.fhwa.dot.gov/ReNEPA/ReNepa.nsf/All+Documents/D155918ABFA4EB3A85256BF20071E9AE/$FILE/Cooperating%20Agency%20Memo%20Factors.1.30.02.doc.

BOEMRE, as the lead agency, will not provide financial assistance to cooperating agencies. Even if an organization is not a cooperating agency, opportunities will exist to provide information and comments to BOEMRE during the normal public input phases of the NEPA/EIS process. If further information about cooperating agencies is needed, please contact Mr. Gary D. Goeke at (504) 736-3233.

5. Comments

Federal, State, and local government agencies, and other interested parties are requested to send their written comments on the scope of the Multisale EIS, significant issues that should be addressed, and alternatives that should be considered one of the following three ways:

1. In written form enclosed in an envelope labeled “Comments on the Multisale EIS” and mailed (or hand carried) to Mr. Gary D. Goeke, Chief, Environmental Assessment Section, Leasing and Environment (MS 5410), Bureau of Ocean Energy Management, Regulation and Enforcement, Gulf of Mexico OCS Region, 1201 Elmwood Park Boulevard, New Orleans, Louisiana 70123-2394;

2. By e-mail BOEMRE e-mail address: MultisaleEIS@BOEMRE.gov; or

3. Online at: http://ocs5yeareis.anl.gov.

Comments should be submitted no later than March 28, 2011.

Because BOEMRE is combining scoping meetings for the Programmatic and Gulf of Mexico Multisale EISs, interested parties are reminded that written scoping comments on the Programmatic EIS will be accepted until March 31, 2011, and may be submitted to: Mr. J. F. Bennett, Chief, Branch of Environmental Assessment, Bureau of Ocean Energy Management, Regulation and Enforcement, 381 Elden Street, Mail Stop 4042, Herndon, Virginia 20170-4817.

6. Scoping Meetings

BOEMRE will hold scoping meetings to obtain additional comments and information regarding the scope of the Multisale EIS. The scoping meetings are scheduled as follows:

• Tuesday, February 15, 2011, Houston Airport Marriott at George Bush Intercontinental, 18700 John F. Kennedy Boulevard, Houston, Texas, 1 p.m. CST.

• Wednesday, February 16, 2011, New Orleans, Louisiana, Hilton New Orleans Airport, 901 Airline Drive, Kenner, Louisiana, 1 p.m. CST.

• Thursday, February 17, 2011, 5 Rivers—Alabama's Delta Resource Center, 30945 Five Rivers Blvd., Spanish Fort, Alabama, 1 p.m. CST.

Dated: January 12, 2011.
L. Renee Orr,
Acting Associate Director for Offshore Energy and Minerals Management.

[FR Doc. 2011-2821 Filed 2-8-11; 8:45 am]

BILLING CODE 4310-MR-W-P